DEPARTMENT OF TRANSPORTATION

Federal Aviation Administration

[Docket No. 2020-0421]

Agency Information Collection Activities: Requests for Comments; Clearance of a Renewed Approval of Information Collection: Anti-Drug Program for Personnel Engaged in Specific Aviation Activities

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 19, 2020. The information collected is used to determine program compliance or non-compliance of regulated aviation employers, conduct oversight planning, determine employers required to provide annual Management Information System testing information, and communicate with entities subject to the program regulations.

DATES: Written comments should be submitted by February 22, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Vicky Dunne by email at: Vicky.Dunne@faa.gov; phone: 202-267-8442.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0535.

Title: Anti-Drug Program for Personnel Engaged in Specific Aviation Activities.

Form Numbers: There are no FAA forms associated with this collection.

Type of Review: Renewal of an information collection.

Background: The Federal Register Notice with a 60-day comment period soliciting comments on the following collection of information was published on May 19, 2020 (FR 30000). The name of the Information Collection Request was changed from `Antidrug and Alcohol Misuse Prevention Program' to reflect the current regulation and program title (Drug and Alcohol Testing Program for Personnel Engaged in Specified Aviation Activities). We also removed the word `Reinstatement' used in the 2018 submission, which was used because the 2014 renewal was not published.

The FAA mandates specified aviation entities to conduct drug and alcohol testing under its regulations, Drug and Alcohol Testing Program (14 CFR part 120), 49 U.S.C. 31306 (Alcohol and controlled substances testing), and the Omnibus Transportation Employee Testing Act of 1991 (the Act). The FAA uses information collected for determining program compliance or non-compliance of regulated aviation employers, oversight planning, determining who must provide annual MIS testing information, and communicating with entities subject to the program regulations.

Respondents: Approximately 6,700 affected entities annually.

Frequency: On occasion.

Estimated Average Burden per Response: 5 minutes.

Estimated Total Annual Burden: 22,902 hours.

Nancy Rodriguez Brown,
Acting Deputy Director, Drug Abatement Division, Aviation Safety.

[FR Doc. 2021-01220 Filed 1-19-21; 8:45 am]

BILLING CODE 4910-13-P